DEPARTMENT OF COMMERCE

National Oceanic and Atmospheric Administration

[I.D. 033103H]

South Atlantic Fishery Management Council; Public Meetings

AGENCY: National Marine Fisheries Service (NMFS), National Oceanic and Atmospheric Administration (NOAA), Commerce.

ACTION: Notice of public meeting.

SUMMARY: The South Atlantic Fishery Management Council (Council) will hold a meeting of its Scientific and Statistical Committee (SSC) Sub-Committee in Charleston, SC.

DATES: The meeting will take place April 23-25, 2003.

ADDRESSES: The meeting will be held at the Town & Country Inn, 2008 Savannah Highway, Charleston, SC 29407; telephone: (843) 571-1000; fax: (843) 766-9444.

Council address: South Atlantic Fishery Management Council, One Southpark Circle, Suite 306, Charleston, SC 29407.

FOR FURTHER INFORMATION CONTACT: Kim Iverson, Public Information Officer; telephone: (843) 571-4366 or toll free: 866-SAFMC-10; fax: (843) 769-4520.

SUPPLEMENTARY INFORMATION: The SSC Sub-Committee will meet from 1 p.m. until 5 p.m. on April 23, 2003, from 8:30 a.m. until 5 p.m. on April 24, 2003, and from 8:30 a.m. until 12 noon on April 25, 2003. Under the Magnuson-Stevens Act, the SSC is the body responsible for reviewing the Council's scientific materials, including stock assessments. Therefore, the purpose of this SSC Sub-Committee meeting is to prepare recommendations for presentation to the full Scientific and Statistical Committee during the June, 2003 meeting in Cocoa Beach, FL, addressing red porgy, vermilion snapper and black sea bass assessments. The SSC Sub-Committee will provide their determinations on the stock assessments, including the following: certify the assessments are based upon best available data/science and are adequate for management, develop advice on the magnitude and direction of action(s) required, interpret the assessment results and provide clearly understood conclusions, develop guidelines for the Council on assessment needs and resources to complete recommendations, and review the current Southeastern Data Assessment and Review (SEDAR) Process and offer recommendations.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the council office (see ADDRESSES) by April 21, 2003.

Dated: April 1, 2003.
Theophilus R. Brainerd,
Acting Director, Office of Sustainable Fisheries, National Marine Fisheries Service.

[FR Doc. 03-8558 Filed 4-7-03; 8:45 am]

BILLING CODE 3510-22-S